ENVIRONMENTAL PROTECTION AGENCY

[FRL-8725-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held October 21-23, 2008 at The Churchill Hotel, Washington, DC. The CHPAC was created to advise the Environmental Protection Agency on science, regulations, and other issues relating to children's environmental health.

DATES: The CHPAC will meet on Tuesday, October 21, Wednesday, October 22, and Thursday, October 23, 2008 at The Churchill Hotel.

ADDRESSES: The Churchill Hotel, 1914 Connecticut Ave NW., Washington DC 20009, Suite 275.

FOR FURTHER INFORMATION CONTACT: Carolyn Hubbard, Child and Aging Health Protection Division, USEPA, MC 1107A, 1200 Pennsylvania Avenue, NW., Washington, DC 20460, (202) 564-2189, hubbard.carolyn@epa.gov.

SUPPLEMENTARY INFORMATION: The meetings of the CHPAC are open to the public. The CHPAC plenary will meet on Wednesday, October 22 from 8:30 a.m. to 5 p.m., and Thursday, October 23, from 8:30 a.m. to 12:30 p.m. The Task Groups will meet Tuesday, October 21, from 1 p.m. to 5 p.m. Agenda items include a discussion of chemicals management policy, a presentation about the process for producing the next edition of America's Children and the Environment, and a discussion on formulating advice on children's health to the EPA Administrator following the transition.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: October 1, 2008.
Carolyn Hubbard,
Designated Federal Official.

Draft Agenda

Tuesday, October 21, 2008

1 p.m.-5 p.m. Chemicals Management Task Group Meeting.

Wednesday, October 22, 2008: CHPAC Plenary Session

8:30-9 Continental Breakfast and Gathering.

9-9:30 Welcome, Introductions, & Agenda Review.

9:30-10 Highlights of Recent EPA Activities.

10-11 Presentation on ANPR on Regulating Greenhouse Gases under the Clean Air Act.

11-11:15 Break.

11:15-12:15 Review of Chemicals Management Comment Letter.

12:15-1:15 Lunch (on your own).

1:15-2:45 Panel on America's Children and the Environment.

2:45-3:30 Revisions to Chemicals Management Comment Letter.

3:30-3:45 Break.

3:45-4 Presentation on EPA Transition process.

4-5 Public Comment.

5 Adjourn for the Day.

Thursday, October 23, 2008: CHPAC Plenary Session Continued

8:30-9 Continental Breakfast and Gathering.

9-9:15 Check In and Agenda Review.

9:15-10:45 Strategic Discussion of Potential CHPAC Advice to the New Administrator.

10:45-11 Break.

11-12 Closure on Chemicals Management Comment Letter.

12-12:30 Wrap Up/Next Steps. Objective: Review agreed-upon action items and next steps

• CHPAC Facilitator

• Carolyn Hubbard, Designated Federal Officer

12:30 Adjourn Plenary.

[FR Doc. E8-23687 Filed 10-6-08; 8:45 am]

BILLING CODE 6560-50-P